INTERNATIONAL TRADE COMMISSION

[Investigation No. 337-TA-809]

Certain Devices for Mobile Data Communication; Notice of Commission Determination Not To Review an Initial Determination Granting in Part Complainant's Motion for Leave To Amend the Complaint and Notice of Investigation

AGENCY: U.S. International Trade Commission.

ACTION: Notice.

SUMMARY: Notice is hereby given that the U.S. International Trade Commission has determined not to review the presiding administrative law judge's (“ALJ”) initial determination (“ID”) (Order No. 41) granting in part complainant's motion for leave to amend the complaint and notice of investigation.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 13, 2011, based on a complaint filed by Openwave Systems Inc. of Redwood City, California. 76 FR 63657-58 (Oct. 13, 2011). 76 FR 54252 (Aug. 31, 2011). The complaint alleged violations of section 337 of the Tariff Act of 1930, as amended 19 U.S.C. 1337, in the importation into the United States, the sale for importation, and the sale within the United States after importation of certain devices for mobile data communication by reason of infringement of various claims of United States Patent Nos. 6,233,608; 6,289,212; 6,405,037; 6,430,409; and 6,625,447. The notice of investigation named the following entities as respondents: Apple Inc. of Cupertino, California; Research In Motion Ltd. of Ontario, Canada; and Research In Motion Corp. of Irving, Texas.

On August 17, 2012, complainant filed a renewed motion to amend the complaint and notice of investigation. Respondents filed an opposition to the motion on August 29, 2012. The Commission investigative attorney filed a response in support of complainant's original motion on July 2, 2012, but did not file a response to the renewed motion.

On September 6, 2012, the ALJ issued the subject ID, granting in part the motion. The ALJ found that, pursuant to Commission Rule 210.14(b) (19 CFR 210.14(b)), good cause exists to amend the complaint and notice of investigation. None of the parties petitioned for review of the ID.

The Commission has determined not to review the ID.

The authority for the Commission's determination is contained in section 337 of the Tariff Act of 1930, as amended (19 U.S.C. 1337), and in section 210.42 of the Commission's Rules of Practice and Procedure (19 CFR 210.42).

By order of the Commission.
Issued: October 1, 2012.
William R. Bishop,
Hearings and Meetings Coordinator.

[FR Doc. 2012-24499 Filed 10-3-12; 8:45 am]

BILLING CODE 7020-02-P